DEPARTMENT OF TRANSPORTATION

Federal Aviation Administration

14 CFR Part 39

[Docket No. FAA-2020-0203; Product Identifier 2019-NM-142-AD; Amendment 39-21256; AD 2020-19-13]

RIN 2120-AA64

Airworthiness Directives; Bombardier, Inc., Airplanes

AGENCY: Federal Aviation Administration (FAA), Department of Transportation (DOT).

ACTION: Final rule.

SUMMARY: The FAA is adopting a new airworthiness directive (AD) for certain Bombardier, Inc., Model CL-600-1A11 (600), CL-600-2A12 (601), and CL-600-2B16 (601-3A, 601-3R, and 604 Variants) airplanes. This AD was prompted by a report that fast and easy access to the portable oxygen bottle may be prevented by the portable oxygen bottle installation's upper bracket latch assembly catching on the pressure gauge tube or on the pressure gauge bezel of the portable oxygen bottle. This AD requires a check to identify the manufacturer and part number of the portable oxygen bottle installation, and, if necessary, modification of the portable oxygen bottle installation. The FAA is issuing this AD to address the unsafe condition on these products.

DATES: This AD is effective November 3, 2020.

The Director of the Federal Register approved the incorporation by reference of certain publications listed in this AD as of November 3, 2020.

ADDRESSES: For service information identified in this final rule, contact Bombardier, Inc., 200 Côte-Vertu Road West, Dorval, Québec H4S 2A3, Canada; North America toll-free telephone 1-866-538-1247 or direct-dial telephone 1-514-855-2999; email ac.yul@aero.bombardier.com; internet https://www.bombardier.com. You may view this service information at the FAA, Airworthiness Products Section, Operational Safety Branch, 2200 South 216th St., Des Moines, WA. For information on the availability of this material at the FAA, call 206-231-3195. It is also available on the internet at https://www.regulations.gov by searching for and locating Docket No. FAA-2020-0203.

Examining the AD Docket

You may examine the AD docket on the internet at https://www.regulations.gov by searching for and locating Docket No. FAA-2020-0203; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

SUPPLEMENTARY INFORMATION:

Discussion

Transport Canada Civil Aviation (TCCA), which is the aviation authority for Canada, has issued Canadian AD CF-2019-26, dated July 9, 2019 (also referred to as the Mandatory Continuing Airworthiness Information, or “the MCAI”), to correct an unsafe condition for certain Bombardier, Inc., Model CL-600-1A11 (600), CL-600-2A12 (601), and CL-600-2B16 (601-3A, 601-3R, and 604 Variants) airplanes. You may examine the MCAI in the AD docket on the internet at https://www.regulations.gov by searching for and locating Docket No. FAA-2020-0203.

The FAA issued a notice of proposed rulemaking (NPRM) to amend 14 CFR part 39 by adding an AD that would apply to certain Bombardier, Inc., Model CL-600-1A11 (600), CL-600-2A12 (601), and CL-600-2B16 (601-3A, 601-3R, and 604 Variants) airplanes. The NPRM published in the Federal Register on March 23, 2020 (85 FR 16284). The NPRM was prompted by a report that fast and easy access to the portable oxygen bottle may be prevented by the portable oxygen bottle installation's upper bracket latch assembly catching on the pressure gauge tube or on the pressure gauge bezel of the portable oxygen bottle. The NPRM proposed to require a check to identify the manufacturer and part number of the portable oxygen bottle installation, and, if necessary, modification of the portable oxygen bottle installation. The FAA is issuing this AD to address the portable oxygen bottle installation's upper bracket latch assembly catching on the pressure gauge tube or on the pressure gauge bezel of the portable oxygen bottle, which, if not detected and corrected, could prevent fast and easy access to the portable oxygen bottle in an emergency situation. See the MCAI for additional background information.

Comments

The FAA gave the public the opportunity to participate in developing this final rule. The following presents the comment received on the NPRM and the FAA's response to each comment.

Support for the NPRM

An anonymous commenter had no objection to the NPRM.

Request To Revise or Clarify the Applicability of Paragraph (i) of the Proposed AD

NetJets requested that the FAA either revise the language in the first sentence of paragraph (i) of the proposed AD to clearly state that the paragraph applies to airplanes having a serial number of 6119 and below that is not listed in section 1.A. of the applicable Bombardier service information specified in figure 1 to paragraphs (g), (h), and (i) of the proposed AD, or that the FAA clarify paragraph (c)(3) of the proposed AD to state that all serial numbers are affected.

The FAA agrees to clarify. Paragraph (i) of the proposed AD is applicable to only airplanes having the serial numbers specified in paragraph (c) of this AD, but not listed in section 1.A. of the applicable Bombardier service information specified in figure 1 to paragraphs (g), (h), and (i) of this AD, and equipped with specified part numbers of Scott (Avox/Zodiac) 5500 or 5600 series 11 cubic foot portable oxygen bottle(s). As such, any serial number not specified in paragraph (c)(3) of this AD for Bombardier Inc. Model CL-600-2B16 (601-3A, 601-3R, and 604 Variants) airplanes, is not affected by paragraph (i) of this AD. The FAA has not changed this AD in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Bombardier has issued the following service information:

• Bombardier Service Bulletin 600-0772, dated June 29, 2018;

• Bombardier Service Bulletin 601-0646, dated June 29, 2018;

• Bombardier Service Bulletin 604-35-006, dated June 29, 2018;

• Bombardier Service Bulletin 605-35-005, dated June 29, 2018; and

• Bombardier Service Bulletin 650-35-001, dated June 29, 2018.

This service information describes procedures for a check to identify the manufacturer and part number of the portable oxygen bottle installation, and, if necessary, modification of the portable oxygen bottle installation. These documents are distinct since they apply to different airplane models. This service information is reasonably available because the interested parties have access to it through their normal course of business or by the means identified in the ADDRESSES section.

Costs of Compliance

We estimate that this AD affects 188 airplanes of U.S. registry. We estimate the following costs to comply with this AD:

Estimated Costs for Required Actions
Labor cost | Parts cost | Cost per product | Cost on U.S. operators
3 work-hours × $85 per hour = $255 per installation | $1,530 per installation | $1,785 per installation | $335,580 per installation.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-19-13 Bombardier, Inc.: Amendment 39-21256; Docket No. FAA-2020-0203; Product Identifier 2019-NM-142-AD.

(a) Effective Date

This AD is effective November 3, 2020.

(b) Affected ADs

None.

(c) Applicability

This AD applies to the Bombardier, Inc., airplanes identified in paragraphs (c)(1) through (3) of this AD, certificated in any category, equipped with Scott (Avox/Zodiac) 5500 or 5600 series 11 cubic foot portable oxygen bottle(s) with upper bracket part number (P/N) 36758-02, P/N 36758-12 orP/N H3-2091-1 installed at the neck of the bottle(s).

(1) Model CL-600-1A11 (600) airplanes, serial numbers 1004 through 1085 inclusive.

(2) Model CL-600-2A12 (601) airplanes, serial numbers 3001 through 3066 inclusive.

(3) Model CL-600-2B16 (601-3A, 601-3R, and 604 Variants) airplanes, serial numbers 5001 through 5194 inclusive, 5301 through 5665 inclusive, 5701 through 5988 inclusive, and 6050 through 6119 inclusive.

(d) Subject

Air Transport Association (ATA) of America Code 35, Oxygen.

(e) Reason

This AD was prompted by a report that fast and easy access to the portable oxygen bottle may be prevented by the portable oxygen bottle installation's upper bracket latch assembly catching on the pressure gauge tube or on the pressure gauge bezel of the portable oxygen bottle. The FAA is issuing this AD to address this condition, which, if not detected and corrected, could prevent fast and easy access to the portable oxygen bottle in an emergency situation.

(f) Compliance

Comply with this AD within the compliance times specified, unless already done.

(g) Portable Oxygen Bottle Check

For airplanes with a serial number listed in Section 1.A. of the applicable Bombardier service information specified in figure 1 to paragraphs (g), (h), and (i) of this AD: Within 60 months after the effective date of this AD, check each portable oxygen bottle installation to determine the manufacturer and part number, in accordance with paragraph 2.B. of the Accomplishment Instructions of the applicable Bombardier service information specified in figure 1 to paragraphs (g), (h), and (i) of this AD.

(h) Bracket Modifications

If, during the inspection specified in paragraph (g) of this AD, any portable oxygen bottle is found to be manufactured by Scott (Avox/Zodiac) and is a 5500 or 5600 series 11 cubic foot bottle, with upper bracket P/N 36758-02, 36758-12, or H3-2091-1 installed at the neck of the bottle: Modify the portable oxygen bottle brackets in accordance with paragraph 2.C. of the Accomplishment Instructions of the applicable Bombardier service information specified in figure 1 to paragraphs (g), (h), and (i) of this AD.

(i) Portable Oxygen Bottle Check and Corrective Actions for Airplanes Not Listed in the Service Information

For airplanes with a serial number that is not listed in section 1.A. of the applicable Bombardier service information specified in figure 1 to paragraphs (g), (h), and (i) of this AD: Within 60 months after the effective date of this AD, check each portable oxygen bottle installation to determine the manufacturer and part number and accomplish corrective actions in accordance with the procedures specified in paragraph (j)(2) of this AD.

(j) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain instructions from a manufacturer, the instructions must be accomplished using a method approved by the Manager, New York ACO Branch, FAA; or Transport Canada Civil Aviation (TCCA); or Bombardier, Inc.'s TCCA Design Approval Organization (DAO). If approved by the DAO, the approval must include the DAO-authorized signature.

(k) Related Information

(1) Refer to Mandatory Continuing Airworthiness Information (MCAI) Canadian AD CF-2019-26, dated July 9, 2019, for related information. This MCAI may be found in the AD docket on the internet at https://www.regulations.gov by searching for and locating Docket No. FAA-2020-0203.

(2) For more information about this AD, contact Darren Gassetto, Aerospace Engineer, Mechanical Systems and Administrative Services Section, FAA, New York ACO Branch, 1600 Stewart Avenue, Suite 410, Westbury, NY 11590; telephone 516-228-7323; fax 516-794-5531; email 9-avs-nyaco-cos@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 600-0772, dated June 29, 2018.

(ii) Bombardier Service Bulletin 601-0646, dated June 29, 2018.

(iii) Bombardier Service Bulletin 604-35-006, dated June 29, 2018.

(iv) Bombardier Service Bulletin 605-35-005, dated June 29, 2018.

(v) Bombardier Service Bulletin 650-35-001, dated June 29, 2018.

(3) For service information identified in this AD, contact Bombardier, Inc., 200 Côte-Vertu Road West, Dorval, Québec H4S 2A3, Canada; North America toll-free telephone 1-866-538-1247 or direct-dial telephone 1-514-855-2999; email ac.yul@aero.bombardier.com; internet https://www.bombardier.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fedreg.legal@nara.gov, or go to: https://www.archives.gov/federal-register/cfr/ibr-locations.html.

Issued on September 10, 2020.
Gaetano A. Sciortino,
Deputy Director for Strategic Initiatives, Compliance & Airworthiness Division, Aircraft Certification Service.

[FR Doc. 2020-21420 Filed 9-28-20; 8:45 am]

BILLING CODE 4910-13-P